SECURITIES AND EXCHANGE COMMISSION

[File No. 500-1]

In the Matter of Accesspoint Corp., Aero Performance Products, Inc., Apex Resources Group, Inc., Aradyme Corp., Bancroft Uranium, Inc., Fightersoft Multimedia Corp., Fortress Financial Group, Inc., and Global Aircraft Solutions, Inc.; Order of Suspension of Trading

October 27, 2011.

It appears to the Securities and Exchange Commission that there is a lack of current and accurate information concerning the securities of Accesspoint Corp. because it has not filed any periodic reports since the period ended September 30, 2005.

It appears to the Securities and Exchange Commission that there is a lack of current and accurate information concerning the securities of Aero Performance Products, Inc. because it has not filed any periodic reports since the period ended March 31, 2009.

It appears to the Securities and Exchange Commission that there is a lack of current and accurate information concerning the securities of Apex Resources Group, Inc. because it has not filed any periodic reports since the period ended March 31, 2008.

It appears to the Securities and Exchange Commission that there is a lack of current and accurate information concerning the securities of Aradyme Corp. because it has not filed any periodic reports since the period ended June 30, 2007.

It appears to the Securities and Exchange Commission that there is a lack of current and accurate information concerning the securities of Bancroft Uranium, Inc. because it has not filed any periodic reports since the period ended September 30, 2008.

It appears to the Securities and Exchange Commission that there is a lack of current and accurate information concerning the securities of Fightersoft Multimedia Corp. because it has not filed any periodic reports since the period ended August 31, 2008.

It appears to the Securities and Exchange Commission that there is a lack of current and accurate information concerning the securities of Fortress Financial Group, Inc. because it has not filed any periodic reports since the period ended September 30, 2005.

It appears to the Securities and Exchange Commission that there is a lack of current and accurate information concerning the securities of Global Aircraft Solutions, Inc. because it has not filed any periodic reports since the period ended September 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on October 27, 2011, through 11:59 p.m. EST on November 9, 2011.

By the Commission.
Jill M. Peterson,
Assistant Secretary.

[FR Doc. 2011-28226 Filed 10-27-11; 11:15 am]

BILLING CODE 8011-01-P